DEPARTMENT OF STATE

[Public Notice #3881]

Overseas Buildings Operations; Industry Advisory Panel: Meeting Notice

The Industry Advisory Panel of Overseas Buildings Operations will meet on Thursday, February 21, 2002 from 9:00 until 11:30 a.m. and 1:00 until 3:30 p.m. Eastern Standard Time. The meeting will be held in conference room 1105 at the Department of State, 2201 C Street NW (entrance on 23rd Street), Washington, D.C. The purpose of the meeting is to discuss new technologies and successful methods for design, construction, security, property management, emergency operations, the environment, and planning and development. An agenda will be available prior to the meeting.

The meeting will be open to the public, however, seating is limited. Prior notification and a valid photo ID are mandatory for entry into the building. Members of the public who plan to attend must notify Sandra Piech at 703/516-1968 before Thursday, February 14, to provide date of birth, Social Security number, and telephone number.

FOR FURTHER INFORMATION CONTACT: Sandra J. Piech 703/516-1968.

Dated: January 23, 2002.
Charles E. Williams,
Director/Chief Operating Officer, Overseas Buildings Operations, Department of State.

[FR Doc. 02-2607 Filed 2-1-02; 8:45 am]

BILLING CODE 4710-24-U